NUCLEAR REGULATORY COMMISSION

[Docket Nos. 50-334 and 50-412]

FirstEnergy Nuclear Operating Company; Notice of Receipt and Availability of Application for Renewal of Beaver Valley Power Station, Units 1 and 2 Facility Operating License Nos. DPR-66 and NPF-73 for an Additional 20-Year Period

The U.S. Nuclear Regulatory Commission (NRC or Commission) has received an application, dated August 27, 2007, from FirstEnergy Nuclear Operating Company, filed pursuant to Section 104b for Unit 1 and Section 103 for Unit 2, of the Atomic Energy Act of 1954, as amended, and Title 10 of the Code of Federal Regulations Part 54 (10 CFR Part 54), to renew the operating licenses for the Beaver Valley Power Station (BVPS), Units 1 and 2. Renewal of the licenses would authorize the applicant to operate each facility for an additional 20-year period beyond the period specified in the respective current operating licenses. The current operating license for BVPS, Unit 1 (DPR-66), expires on January 29, 2016. BVPS, Unit 1, is a pressurized-water reactor designed by Westinghouse. The current operating license for BVPS, Unit 2 (NPF-73), expires on May 27, 2027. BVPS, Unit 2, is a pressurized-water reactor designed by Westinghouse. Both units are located near Shippingport, Pennsylvania. The acceptability of the tendered application for docketing, and other matters including an opportunity to request a hearing, will be the subject of subsequent Federal Register notices.

Copies of the application are available to the public at the Commission's Public Document Room (PDR), located at One White Flint North, 11555 Rockville Pike, Rockville, MD 20852 or through the internet from the NRC's Agencywide Documents Access and Management System (ADAMS) Public Electronic Reading Room under Accession Number ML072430913. The ADAMS Public Electronic Reading Room is accessible from the NRC Web site at http://www.nrc.gov/reading-rm/adams.html. In addition, the application is available at http://www.nrc.gov/reactors/operating/licensing/renewal/applications.html. Persons who do not have access to the Internet or who encounter problems in accessing the documents located in ADAMS should contact the NRC's PDR reference staff at 1-800-397-4209, extension 4737, or by e-mail to pdr@nrc.gov.

A copy of the license renewal application for the BVPS, Units 1 and 2, is also available to local residents near the site at the Beaver Area Memorial Library, 100 College Avenue, Beaver, Pennsylvania 15009.

Dated at Rockville, Maryland, this 18th day of September, 2007.
For the Nuclear Regulatory Commission.
Pao-Tsin Kuo,
Director, Division of License Renewal, Office of Nuclear Reactor Regulation.

[FR Doc. E7-18742 Filed 9-21-07; 8:45 am]

BILLING CODE 7590-01-P